DEPARTMENT OF HOUSING AND URBAN DEVELOPMENT

[Docket No. FR-6035-N-01]

Notice of Regulatory Waiver Requests Granted for the First Quarter of Calendar Year 2017

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2017, and ending on March 31, 2017.

FOR FURTHER INFORMATION CONTACT: For general information about this notice, contact Aaron Santa Anna, Assistant General Counsel for Regulations, Department of Housing and Urban Development, 451 7th Street SW., Room 10276, Washington, DC 20410-0500, telephone 202-708-3055 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the first quarter of calendar year 2017.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2017 through March 31, 2017. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2017) before the next report is published (the second quarter of calendar year 2017), HUD will include any additional waivers granted for the first quarter in the next report.

Accordingly, information about approved waiver requests pertaining to HUD regulations is provided in the Appendix that follows this notice.

Dated: June 23, 2017.
Ariel Pereira,
Associate General Counsel for Legislation and Regulations.

Appendix

Listing of Waivers of Regulatory Requirements Granted by Offices of the Department of Housing and Urban Development January 1, 2017 Through March 31, 2017

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 92.2.

Project/Activity: The City of Gainesville, Florida requested a waiver of 24 CFR 92.2 paragraph (3)(iv), which states that officers or employees of a government entity may not be officers or employees of a community housing development organization (CHDO). The City requested this waiver to permit the Mayor of the City of Archer, Mr. Corey Harris, Florida to act as the Executive Director of the City of Gainesville's only CHDO.

Nature of Requirement: Paragraph (3)(iv) of the definition of a CHDO in the HOME regulations at 24 CFR 92.2 prohibits an employee of a governmental entity from serving as an employee of a CHDO. This provision ensures that there is no conflict of interest between a participating jurisdiction and a CHDO that received HOME funding from the participating jurisdiction. The provision also guarantees that a CHDO is indeed a community-based and community controlled organization.

Granted By: Harriet Tregoning, Principal Deputy Assistant Secretary, D.

Date Granted: January 10, 2017.

Reason Waived: Mr. Harris is currently the Mayor of Archer Florida; a City within Alachua County and a wholly separate and non-contiguous entity from the City of Gainesville. Mr. Harris is also the Executive Director of NHDC; the only designated CHDO in the City of Gainesville. The City of Gainesville does not expend HOME funds outside of the City's limits, including the City of Archer. Further, Mr. Harris, as the Mayor of the City of Archer and as the Executive Director of NHDC, has no official decision-making authority or influence in the City of Gainesville's funding decision's. The City stated that NHDC is the only viable CHDO within the City of Gainesville's jurisdiction, and the exclusion of NHDC as its CHDO would create hardship. The waiver permitted Mr. Harris to remain in both position and enabled the City of Gainesville to retain its only CHDO.

Contact: Virginia Sardone, Director, Office of Affordable Housing Programs, Office of Community Planning and Development, Department of Housing and Urban Development, 451 Seventh Street SW., Room 7164, Washington, DC 20410, telephone (202) 708-2684.

• Regulation: 24 CFR 92.252(d)(1).

Project/Activity: The City of Daly, California requested a waiver of 24 CFR 92.252(d)(1), which requires a participating jurisdiction to establish maximum monthly allowances for utilities and services (excluding telephone) and update the allowances annually. The City requested this waiver to allow use of utility allowance established by local public housing agency (PHA) for a HOME-assisted project under construction—Sweeny Lane Apartments.

Nature of Requirement: The regulation at 24 CFR 92.252(d)(1) requires participating jurisdictions to establish maximum monthly allowances for utilities and services (excluding telephone) and update the allowances annually. Participating jurisdictions must use the HUD Utility Schedule Model or otherwise determine the utility allowance for the project based on the type of utilities used at the project. Consequently, participating jurisdictions are no longer permitted to use the utility allowance established by the local PHA for HOME-assisted rental projects for which HOME funds were committed on or after August 23, 2013.

Granted By: Harriet Tregoning, Principal Deputy Assistant Secretary, D.

Date Granted: January 19, 2017.

Reason Waived: The HOME requirements for establishing a utility allowances conflict with Project Based Voucher program requirements. Consequently, it is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW., Room 7164, Washington, DC 20410, telephone (202) 708-2684.

• Regulation: 24 CFR 92.252(d)(1).

Project/Activity: The City of Sacramento, California requested a waiver of 24 CFR 92. 92.252(d)(1), which requires a participating jurisdiction to establish maximum monthly allowances for utilities and services (excluding telephone) and update the allowances annually. The City requested this waiver to allow use of the utility allowance established by the local public housing agency (PHA) for two existing HOME projects—Sierra Vista Apartments and Washington Plaza Apartments.

Nature of Requirement: The regulation at 24 CFR 92.252(d)(1) requires a participating jurisdiction to establish maximum monthly allowances for utilities and services (excluding telephone) and update the allowances annually. Participating jurisdictions must use the HUD Utility Schedule Model or otherwise determine the utility allowance for the project based on the type of utilities used at the project. Consequently, participating jurisdictions are no longer permitted to use the utility allowance established by the local PHA for HOME-assisted rental projects for which HOME funds were committed on or after August 23, 2013.

Granted By: Harriet Tregoning, Principal Deputy Assistant Secretary, D.

Date Granted: January 19, 2017.

Reason Waived: HUD acknowledges that the HOME requirements for establishing a utility allowance conflict with Project Based Voucher program requirements. In addition, HUD recognizes that it is not possible to use two different utility allowance to set the rent for a single unit and it is administratively burdensome to require a project owner establish and implement different utility allowance for HOME-assisted units and non-HOME assisted units in a project.

Contact: Virginia Sardone, Director, Office of Affordable Housing Programs, Office of Community Planning and Development, Department of Housing and Urban Development, 451 Seventh Street SW., Room 7164, Washington, DC 20410, telephone (202) 708-2684.

• Regulation: 24 CFR 92.252(d)(1).

Project/Activity: The county of San Mateo, California requested a waiver of 24 CFR 92. 92.252(d)(1), which requires a participating jurisdiction to establish maximum monthly allowances for utilities and services (excluding telephone) and update the allowances annually. The county requested this waiver to allow use of utility allowance established by local public housing agency (PHA) for a HOME project under construction—Sweeny Lane Apartments.

Nature of Requirement: The regulation at 24 CFR 92.252(d)(1) requires participating jurisdictions to establish maximum monthly allowances for utilities and services (excluding telephone) and update the allowances annually. A participating jurisdiction must use the HUD Utility Schedule Model or otherwise determine the utility allowance for the project based on the type of utilities used at the project. Consequently, participating jurisdictions are no longer permitted to use the utility allowance established by the local PHA for HOME-assisted rental projects for which HOME funds were committed on or after August 23, 2013.

Granted By: Harriet Tregoning, Principal Deputy Assistant Secretary, D.

Date Granted: January 19, 2017.

Reason Waived: HUD acknowledges that the HOME requirements for establishing a utility allowance conflict with Project Based Voucher program requirements. In addition, HUD recognizes that it is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW., Room 7164, Washington, DC 20410, telephone (202) 708-2684.

• Regulation: 24 CFR 92.252(d)(1).

Project/Activity: The Hennepin County Consortium requested a waiver of 24 CFR 92. 92.252(d)(1), which requires a participating jurisdiction to establish maximum monthly allowances for utilities and services (excluding telephone) and update the allowances annually. The consortium requests this waiver to allow use the utility allowance established by the local Metropolitan Council Housing Authority for Indian Knoll Manor, a HOME-assisted rental project.

Nature of Requirement: The regulation at 24 CFR 92.252(d)(1) requires participating jurisdictions to establish maximum monthly allowances for utilities and services (excluding telephone) and update the allowances annually. A participating jurisdiction must use the HUD Utility Schedule Model or otherwise determine the utility allowance for the project based on the type of utilities used at the project. Consequently, participating jurisdictions are no longer permitted to use the utility allowance established by the local public housing agency (PHA) for HOME-assisted rental projects for which HOME funds were committed on or after August 23, 2013.

Granted By: Cliff Taffet, General Deputy Assistant Secretary, D.

Date Granted: February 13, 2017.

Reason Waived: HUD acknowledges that the HOME requirements for establishing a utility allowance conflict with Project Based Voucher program requirements. In addition, HUD recognizes that it is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW., Room 7164, Washington, DC 20410, telephone (202) 708-2684.

• Regulation: 24 CFR 92.500(d)(1)(C).

Project/Activity: The City of New Orleans, Louisiana, requested that HUD waive the HOME program expenditure requirement at 24 CFR 92.500(d)(1)(C). The City requests this waiver to provide additional time to expend HOME funds that the City committed to fill funding gaps in multiple phases of its Choice Neighborhoods Initiative grant. Currently, Phases V and VI of the Choice Neighborhoods Initiative project and one other multi-family redevelopment project adjacent to the CNI project have a funding gap of approximately $4 million dollars.

Nature of Requirement: This provision requires that a participating jurisdiction expend its annual allocation of HOME funds within five years after HUD notifies the participating jurisdiction that HUD has executed the jurisdiction's HOME Investment Partnerships Agreement.

Granted By: Harriet Tregoning, Principal Deputy Assistant Secretary, D.

Date Granted: January 9, 2017.

Reason Waived: As of October 31, 2016, the City had an expenditure shortfall of $3,123,850. The deobligation of $3,123,850 of HOME funds would create an undue hardship by jeopardizing the completion of the Choice Neighborhoods Initiative project and limiting the number of one-for-one replacement units. The City has presented an aggressive plan to improve its HOME performance by using HOME funds to close funding gaps in the Choice Neighborhoods Initiative projects and has shown progress in increasing its HOME expenditure rate in recent months.

Contact: Virginia Sardone, Director, Office of Affordable Housing Programs, Office of Community Planning and Development, Department of Housing and Urban Development, 451 Seventh Street SW., Room 7164, Washington, DC 20410, telephone (202) 708-2684.

• Regulation: 24 CFR 570.209(b)(3)(i)(A).

Project/Activity: City of Atlanta, Georgia—Atlanta Lettuce Project.

Nature of Requirement: 24 CFR 570.209(b) establishes guidelines to evaluate whether certain activities will demonstrate a minimum level of public benefit. Activities covered by these guidelines must either create or retain full-time equivalent, permanent jobs or provide goods or services to low- and moderate-income persons residing in areas served by the businesses assisted by the covered activities. If the public benefit is based on jobs created or retained, 24 CFR 570.209(b)(3)(i)(A) provides that any covered activity is ineligible for Community Development Block Grant (CDBG) assistance if the amount of CDBG assistance exceeds $50,000 per full-time equivalent, permanent job created or retained.

Granted By: Harriet Tregoning, Principal Deputy Assistant Secretary for Community Planning and Development.

Date Granted: January 12, 2017.

Reason Waived: HUD waived the regulation because the city provided information on other public benefits, beyond the creation of jobs, that would be generated by the project and accrue to future employees as well as residents of the immediate neighborhood and the larger Atlanta community. These benefits include the following: The project will be located in an area designated and prioritized by the city for redevelopment in recent years; the median household income for the area is $19,168, compared with the median household income for the city of $52,082; the project will be located in an area with a poverty rate greater than 40 percent; the project will turn a three-acre vacant brownfield into a viable business; the project will partner with a community development corporation to provide excess produce from the project to local residents unable to afford such produce in grocery stores; the project, with help from local partners, will provide wrap-around services to assist employees with own and with life skills training, financial literacy, tax assistance, and other services; employees of the project will own shares in the project and will be incentived through bonuses based on production and sales, both of which will enable employees to build assets and wealth over time; the project will donate excess produce to the Atlanta Community Food Bank; the project will partner with Food Well Alliance, a local non-profit organization to provide produce to local farmers' markets with customers who use Supplemental Nutrition Assistance Program (SNAP) and Women, Infants, and Children (WIC) benefits.

Contact: Paul Webster, Director, Financial Management Division; Office of Community Planning and Development, Department of Housing and Urban Development, 451 7th Street SW., Room 7178, Washington, DC 20410, telephone (202) 402-4563.

• Regulation: 24 CFR 570.208(a)(3).

Project/Activity: City of Texarkana, Texas—Hotel Grim Lofts Project.

Nature of Requirement: 24 CFR 570.208(a)(3) provides national objective criteria for an eligible activity carried out for the purpose of providing or improving permanent residential structures which, upon completion, will be occupied by low- and moderate-income households. If the structure contains two dwelling units, at least one must be so occupied, and if the structure contains more than two dwelling units, at least 51 percent of the units must be so occupied.

Granted By: Harriet Tregoning, Principal Deputy Assistant Secretary for Community Planning and Development.

Date Granted: January 3, 2017.

Reason Waived: HUD waived the regulation because disapproval of the waiver would have resulted in an undue hardship and adversely affected the purposes of the Housing and Community Development Act of 1974, as amended. Requiring 51 percent of the units to be occupied by LMI persons would have reduced the conventional debt financing available for the project by $1.1 million, a funding gap for which the city would not have been able to find another source. Therefore, the project could not be completed and would not create any affordable housing units. Additionally, the project will assist the city in its efforts to meet its community and economic development objectives as outlined in its 2013-2017 Consolidated Plan and 2016 Annual Action Plan, which identified the downtown area as an area with a high percentage of low-and moderate-persons and very few affordable housing opportunities and recommended the development of housing units within mixed-use properties to meet this need. Additionally, this building has been vacant for almost thirty years and its redevelopment will serve as a catalyst for revitalization efforts in the city's downtown.

HUD granted the waiver with the following mandatory conditions: (1) The city must provide written notification to the Fort Worth Regional Office of its adoption and publication of its standards for determining affordable rents; (2) the city must require the project developer to record a use restriction against the project property that will impose a ten-year affordability requirement, requiring at least 20 percent of the units to be occupied by LMI households; (3) the city will conduct annual, on-site monitoring to verify compliance with the conditions for the duration of the affordability period; (4) the city will provide HUD Financial Management Division and the Regional Office a status report not later than 15 days from the end of each quarter during the construction and lease-up period, and through the affordability period if required by the Regional Office, that includes updates on construction completion, Section 108 funds disbursement, initial occupancy of LMI units, and any other information as required by the Regional Office. The actions required under conditions (1) and (2) must be completed prior to HUD's guarantee of a note or other obligation pursuant to the loan guarantee commitment for the project.

Contact: Paul Webster, Director, Financial Management Division, Office of Community Planning and Development, Department of Housing and Urban Development, 451 7th Street SW., Room 7178, Washington, DC 20410, telephone (202) 402-4563.

• Regulation: 24 CFR 578.3 and 24 CFR 578.51(l)(1).

Project/Activity: Multnomah County, OR—Home Forward.

Nature of Requirement: “24 CFR 578.3 defines permanent housing as housing where the program participant is the tenant on a lease for a term of at least one year, which is renewable for terms that are a minimum of one month long. Provisions at 24 CFR 578.51(l)(1) of the Continuum of Care (CoC) Program interim rule states: For project-based, sponsor-based, or tenant-based rental assistance, program participants must enter into a lease agreement for a term of at least one year, which is terminable for cause.“

Granted By: Harriet Tregoning, Principal Deputy Assistant Secretary for Community Planning and Development.

Date Granted: January 17, 2017.

Reason Waived: Many landlords in Multnomah County, OR offer month to month lease terms as opposed to full year leases and the county has an extremely low vacancy rate. Because of the tight rental market, Home Forward is finding it increasingly difficult to identify landlords willing to alter their policies regarding length of lease terms when considering permanent supportive housing applicants.

Contact: Renee Ryles, Director, Office of Field Management, Office of Community Planning and Development, Department of Housing and Urban Development, 451 7th St. SW., Room 7152, Washington, DC 20410, telephone (202) 402-4609.

• Regulation: 24 CFR 576.106(d).

Project/Activity: The State of Tennessee—Tennessee Housing Development Agency.

Nature of Requirement: Under 24 CFR 576.106(d)(1), ESG rental assistance cannot be provided unless the rent is equal to or less than the FMR established by HUD.

Granted By: Clifford Taffet, General Deputy Assistant Secretary for Community Planning and Development.

Date Granted: February 16, 2017.

Reason Waived: HUD has determined that the rental vacancy rate in Tennessee after the wildfires is extraordinarily low. Waiving the FMR for Rapid Re-housing under ESG will make more units available to individuals and families in need of permanent housing.

Contact: Mary C. Wilson, Director, Office of Community Planning and Development, Department of Housing and Urban Development, 710 Locust Street SW., Suite 300 Knoxville, TN 37902.

• Regulation: 24 CFR 576.106(d).

Project/Activity: The State of Oregon—Oregon Housing and Community Services.

Nature of Requirement: Under 24 CFR 576.106(d)(1), ESG rental assistance cannot be provided unless the rent is equal to or less than the FMR established by HUD.

Granted By: Clifford Taffet, General Deputy Assistant Secretary for Community Planning and Development.

Date Granted: March 1, 2017.

Reason Waived: High rental costs and low vacancy rates result in a shortage of affordable housing units. Allowing ESG rental assistance funds to be used for units with rents up to the payment standard adopted by the local PHA will increase housing options.

Contact: Renee Ryles, Director, Office of Field Management, Office of Community Planning and Development, Department of Housing and Urban Development, 451 7th St. SW., Room 7152, Washington, DC 20410, telephone (202) 402-4609.

II. Regulatory Waivers Granted by the Office of Housing—Federal Housing Administration (FHA)

For further information about the following regulatory waivers, please see the name of the contact person that immediately follows the description of the waiver granted.

• Regulation: 24 CFR 232.7.

Project/Activity: The Stratford at Beyer Park (Stratford) is a memory care facility. The facility does not meet the requirements of 24 CFR 232.7 “Bathroom” of FHA's regulations. The project is located in Modesto, CA.

Nature of Requirement: The regulation mandates in a board and care home or assisted living facility that the not less than one full bathroom must be provided for every four residents. Also, the bathroom cannot be accessed from a public corridor or area.

Granted By: Genger M. Charles, General Deputy Assistant Secretary for Housing.

Date Granted: February 17, 2017.

Reason Waived: The project is for memory care, all rooms have half-bathrooms and the resident to full bathroom ratio is 7:1. The project meets the State of California's Licensing requirements at least one bathtub or shower for each ten residents.

Contact: Vance T. Morris, Operations Manager, Office of Healthcare Programs, Office of Housing, Department of Housing and Urban Development, 451 Seventh Street SW., Room 2337, Washington, DC 20401, telephone (202) 402-2419.

• Regulation: 24 CFR 242.58(b)(ii) and 24 CFR 242.58(b)(iv). Project/Activity: New York Presbyterian Hospital, FHA Project Number 012-10044, New York, NY. The Borrower has requested an extension of the quarterly and annual deadlines to submit financial statements to HUD.

Nature of Requirement: 24 CFR 242.58(b)(ii) states that, with regard to financial reporting requirements for hospitals with FHA-insured loans, quarterly unaudited financial reports must be filed with HUD within 40 days following the end of each quarter of the mortgagor's fiscal year. 24 CFR 242.58(b)(iv) states that, also with regard to financial reporting requirements for hospitals with FHA-insured loans, board-certified annual financial results must be filed with HUD within 120 days following the close of the fiscal year (if the annual audited financial statement has not yet been filed with HUD).

Granted by: Genger Charles, Principal Deputy Assistant Secretary for Housing H.

Reason Waived: The Borrower requested and was granted waivers of these HUD requirements governing financial reporting. 24 CFR 242.58(b)(ii) was waived in order to allow the Borrower to submit quarterly unaudited financial reports to HUD up to 60 days following the end of each quarter of the mortgagor's fiscal year. CFR 242.58(b)(iv) was waived in order to allow NYP to submit board-certified annual financial results to HUD up to 150 days following the close of the fiscal year (if the annual audited financial statement has not yet been filed with HUD). The Borrower is a very complex organization, including multiple hospital entities and campuses, 2,600 beds, over 6,500 affiliated physicians. The extension of reporting requirements will allow the Borrower sufficient time to coordinate its financial reports among its numerous operating entities, and will align reporting requirements with its other taxable bond issues.

Contact: Vance T. Morris, Operations Manager, Office of Healthcare Programs, Office of Housing, Department of Housing and Urban Development, 451 7th Street SW., Room 2337, Washington, DC 20401, telephone (202) 402-2419.

• Regulation: 24 CFR 266.200(b)(2).

Project/Activity: Federal Financing Bank (FFB) Risk Sharing Initiative, Substantial Rehabilitation, Massachusetts Housing Partnership (MHP). Waivers of certain provisions of the Risk Sharing Program regulations for an additional 15 projects for a total of 20 projects utilizing the Federal Financing Bank (FFB) Risk Sharing Initiative in calendar year 2017.

Nature of Requirement: The 24 CFR part 266.200(b)(2) Substantial Rehabilitation. The Department will permit the revised definition of substantial rehabilitation (S/R) in the revised MAP Guide published on January 29, 2016, such that S/R is: Any scope of work that either: (a) Exceeds in aggregate cost a sum equal to the `base per dwelling unit limit' times the applicable High Cost Factor, or (b) Replacement of two or more building systems. `Replacement' is when the cost of replacement work exceeds 50 percent of the cost of replacing the entire system. The base limit is revised to $15,000 per unit for 2015, and will be adjusted annually based on the percentage change published by the Consumer Financial Protection Bureau, or other inflation cost index published by HUD.

Granted By: Gender Charles, Principal Deputy Assistant Secretary for Housing, H.

Date Granted: March 31, 2017.

Reason Waived: Necessary to effectuate the Federal Financing Bank (FFB) Risk Sharing Initiative between Housing and Urban Development and the Treasury Department/FFB announced in Fiscal Year 2014. The approval and execution of the FFB Risk Sharing Agreement will facilitate the expansion of the program to increase the supply of affordable rental housing and to assist in the preservation of existing of rental housing. Under this Initiative, FFB provides capital to participating Housing Finance Agencies (HFAs) to make multifamily loans insured under the FHA Multifamily Risk Sharing Program.

Contact: Daniel J. Sullivan, Acting Director, Office of Multifamily Production, Office of Housing, Department of Housing and Urban Development, 451 Seventh Street SW., Room 6134, Washington, DC 20410, telephone (202) 402-6130.

• Regulation: 24 CFR 266.200(c)(2).

Project/Activity: Federal Financing Bank (FFB) Risk Sharing Initiative, Equity Take-Outs. Massachusetts Housing Partnership (MHP). Waivers of certain provisions of the Risk Sharing Program regulations for an additional 15 projects for a total of 20 projects utilizing the Federal Financing Bank (FFB) Risk Sharing Initiative in calendar year 2017.

Nature of Requirement: Equity take-outs for existing projects (refinance transactions): Permit the insured mortgage to exceed the sum of the total cost of acquisition, cost of financing, cost of repairs, and reasonable transaction costs or “equity take-outs” in refinances of HFA-financed projects and those outside of HFA's portfolio if the result is preservation with the following conditions:

1. Occupancy is no less than 93% for previous 12 months;

2. No defaults in the last 12 months of the HFA loan to be refinanced;

3. A 20-year affordable housing deed restriction placed on title that conforms to the 542(c)-statutory definition;

4. A Property Capital Needs Assessment (PCNA) must be performed and funds escrowed for all necessary repairs, and reserves funded for future capital needs; and

5. For projects subsidized by Section 8 Housing Assistance Payment (HAP) contracts:

a. Owner agrees to renew HAP contract(s) for 20-year term, (subject to appropriations and statutory authorization, etc.,), and

b. In accordance with regulations found in 24 CFR 883.306(e), and Housing Notice 2012-14—Use of “New Regulation” Section 8 Housing Assistance Payments (HAP) Contracts Residual Receipts of Offset Project-Based Section 8 Housing Assistance Payments, if at any time MHP determines that a project's excess funds (surplus cash) after project operations, reserve requirements and permitted distributions are met, MHP must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned to HUD.

Granted By: Gender Charles, Principal Deputy Assistant Secretary for Housing.

Date Granted: March 31, 2017.

Reason Waived: Necessary to effectuate the Federal Financing Bank (FFB) Risk Sharing Initiative between Housing and Urban Development and the Treasury Department/FFB announced in Fiscal Year 2014. The approval and execution of the FFB Risk Sharing Agreement will facilitate the expansion of the program to increase the supply of affordable rental housing and to assist in the preservation of existing of rental housing. Under this Initiative, FFB provides capital to participating Housing Finance Agencies (HFAs) to make multifamily loans insured under the FHA Multifamily Risk Sharing Program.

Contact: Daniel J. Sullivan, Acting Director, Office of Multifamily Production, Office of Housing, Department of Housing and Urban Development, 451 Seventh Street SW., Room 6134, Washington, DC 20410, telephone (202) 402-6130.

• Regulation: 24 CFR 266.200(d).

Project/Activity: Federal Financing Bank (FFB) Risk Sharing Initiative, Substantial Rehabilitation, Massachusetts Housing Partnership (MHP). Waivers of certain provisions of the Risk Sharing Program regulations for an additional 15 projects for a total of 20 projects utilizing the Federal Financing Bank (FFB) Risk Sharing Initiative in calendar year 2017.

Nature of Requirements: The 24 CFR part 266.200(d) Underwrite Section 8 Rents. Projects receiving section 8 rental subsidies or other rental subsidies. For refinancing of Section 202 projects, and for Public Housing Authority (PHA) projects converting to Section 8 through the Rental Assistance Demonstration (RAD) Initiative, the Department will permit MHP to underwrite the financing using current or to be adjusted project-based Section 8 assisted rents, even though they exceed the market rates. This is consistent with HUD Housing Notice 04-214, “Amendments to Notice 02-16: Underwriting Guidelines for Refinancing of Section 202, and Section 202/8 Direct Loan Repayments”, which grants authority only to those lenders refinancing with mortgage programs under the National Housing Act.

Granted By: Genger Charles, Principal Deputy Assistant Secretary for Housing.

Date Granted: March 31, 2017.

Reason Waived: Necessary to effectuate the Federal Financing Bank (FFB) Risk Sharing Initiative between Housing and Urban Development and the Treasury Department/FFB announced in Fiscal Year 2014. The approval and execution of the FFB Risk Sharing Agreement will facilitate the expansion of the program to increase the supply of affordable rental housing and to assist in the preservation of existing of rental housing. Under this Initiative, FFB provides capital to participating Housing Finance Agencies (HFAs) to make multifamily loans insured under the FHA Multifamily Risk Sharing Program.

Contact: Daniel J. Sullivan, Acting Director, Office of Multifamily Production, Office of Housing, Department of Housing and Urban Development, 451 Seventh Street SW., Room 6134, Washington, DC 20410, telephone (202) 402-6130.

• Regulation: 24 CFR 266.620(e).

Project/Activity: Federal Financing Bank (FFB) Risk Sharing Initiative, Termination of Mortgage Insurance. Massachusetts Housing Partnership (MHP). Waivers of certain provisions of the Risk Sharing Program regulations for an additional 15 projects for a total of 20 projects utilizing the Federal Financing Bank (FFB) Risk Sharing Initiative in calendar year 2017.

Nature of Requirement: The 24 CFR part 266.620(e) Termination of Mortgage Insurance. As required by the Initiative, Massachusetts Housing Partnership (MHP) agrees to indemnify HUD for all amounts paid to FFB if “the HFA or its successors commit fraud, or make a material misrepresentation to the Commissioner with respect to information culminating in the Contract of Insurance on the mortgage, or while the Contract of Insurance is in existence.”

Granted by: Genger Charles, Principal Deputy Assistant Secretary for Housing.

Date Granted: March 31, 2017.

Reason Waived: Necessary to effectuate the Federal Financing Bank (FFB) Risk Sharing Initiative between Housing and Urban Development and the Treasury Department/FFB announced in Fiscal Year 2014. The approval and execution of the FFB Risk Sharing Agreement will facilitate the expansion of the program to increase the supply of affordable rental housing and to assist in the preservation of existing of rental housing. Under this Initiative, FFB provides capital to participating Housing Finance Agencies (HFAs) to make multifamily loans insured under the FHA Multifamily Risk Sharing Program.

Contact: Daniel J. Sullivan, Acting Director, Office of Multifamily Production, Office of Housing, Department of Housing and Urban Development, 451 Seventh Street SW., Room 6134, Washington, DC 20410, telephone (202) 402-6130.

III. Regulatory Waivers Granted by the Office of Public and Indian Housing

For further information about the following regulatory waivers, please see the name of the contact person that immediately follows the description of the waiver granted.

• Regulation: 24 CFR 5.801 and 24 CFR 902 (FEMA-4277-DR-LA).

Project/Activity: Housing Authority of the City of Denham Springs (LA101).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Jemine A. Bryon, General Deputy Assistant Secretary for Public and Indian Housing.

Date Granted: February 13, 2017.

Reason Waived: Housing Authority of the City of Denham Springs requested relief of financial condition scoring and its financial reporting requirements for the fiscal year end (FYE) of September 30, 2016. The HA's records and building contents were all destroyed during the storm disaster of October 2016. Therefore, the HA was approved until March 31, 2017, to submit its unaudited financial statements. Also, the HA was approved until January 31, 2018, to submit its audited financial statements to HUD, which only permits the extension for filing. The FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street SW., Suite 100, Washington, DC 20410, telephone (202) 475-7908.

• Regulation: 24 CFR 5.801 and 24 CFR 902.33(c).

Project/Activity: Louisiana Housing Authority (LA903).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Jemine A. Bryon, General Deputy Assistant Secretary for Public and Indian Housing.

Date Granted: March 9, 2017.

Reason Waived: Louisiana Housing Authority (HA), a Section 8-only agency, requested relief of financial condition scoring and its financial reporting requirements for the fiscal year end (FYE) of December 31, 2016. The HA requested relief for redirecting agency resources to permit assistance to families that were affected by the severe storm and flooding during the 2016 storm disaster. Therefore, the HA was approved until June 30, 2017, to submit its unaudited financial statements. The HA has until January 31, 2018, to submit its audited financial statements to HUD, which only permits the extension for filing. The FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street SW., Suite 100, Washington, DC 20410, telephone (202) 475-7908.

• Regulation: 24 CFR 5, 24 CFR 5.801, and 24 CFR 902.33(c).

Project/Activity: Housing Authority of the City of Lumberton (NC014).

Nature of Requirement: The regulation establishes certain reporting compliance dates. The audited financial statements are required to be submitted to the Real Estate Assessment Center (REAC) no later than nine months after the housing authority's (HA) fiscal year end (FYE), in accordance with the Single Audit Act and OMB Circular A-133.

Physical inspections are required to ensure that public housing units are decent, safe, sanitary and in good repair, as determined by an inspection conducted in accordance with HUD's Uniform Physical Condition Standards (UPCS). Baseline inspections will have all properties inspected regardless of previous PHAS designation or physical inspection scores.

Granted By: Jemine A. Bryon, General Deputy Assistant Secretary for Public and Indian Housing.

Date Granted: March 22, 2017.

Reason Waived: Housing Authority of the City of Lumberton (HA) requested to be waived of its unaudited financial requirements for its fiscal year end (FYE) of March 30, 2017, and all physical inspection and physical condition scoring for fiscal years (FY) 2016 and FY 2017. The HA's computers, records and building contents were all destroyed during the 2016 storm disaster. Therefore, the HA was approved until September 30, 2017 to submit its unaudited financial statements for FYE March 30, 2017. Since only occupied units are inspected, a waiver of physical inspection is not required for vacant public housing units. However, physical inspections for all projects are expected to resume for the HA's FYE March 30, 2018.

Contact: Dee Ann R. Walker, Acting Program Manager, NASS, Real Estate Assessment Center, Office of Public and Indian Housing, Department of Housing and Urban Development, 550 12th Street SW., Suite 100, Washington, DC 20410, telephone (202) 475-7908.

• Regulation: 24 CFR 982.305(b)(1) and 982.305(b)(2)(i).

Project/Activity: Boone County Housing Authority (BCHA) in Columbia, Missouri, requested a waiver of 24 CFR 982.305(b)(1) and 982.305(b)(2)(i) so that HUD-Veterans Affairs Supportive Housing (VASH) units will not be required to have an in-person follow up inspection if the unit fails the initial inspection.

Nature of Requirement: These regulations state that a PHA must inspect a unit prior to initial leasing to ensure that it meets housing quality standards (HQS).

Granted By: Jemine A Bryon, General Deputy Assistant Secretary for Public and Indian Housing.

Date Granted: February 13, 2017.

Reason Waived: Due to long distances between the PHA and its units and between units, this regulation was waived so that the BHA could use other methods (photographs, repair receipts) to determine that repairs were made to ensure the unit meets HQS.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Housing Authority of the County of Salt Lake in Salt Lake City, Utah, requested a waiver of 24 CFR 982.505(d) so that it could approve an exception payment standard amount above 120 percent of the fair market rents (FMR) as a reasonable accommodation.

Nature of Requirement: 24 CFR 982.505(d) states that a public housing agency may only approve a higher payment standard for a family as a reasonable accommodation if the higher payment standard is no more than 120 percent of the FMR for the unit size.

Granted By: Jemine A. Bryon, General Deputy Assistant Secretary for Public and Indian Housing.

Date Granted: January 30, 2017.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Housing Opportunities Commission of Montgomery County (HOCMC) in Kensington, Maryland, requested a waiver of 24 CFR 982.505(d) so that it could approve an exception payment standard amount above 120 percent of the fair market rents (FMR) as a reasonable accommodation.

Nature of Requirement: 24 CFR 982.505(d) states that a public housing agency may only approve a higher payment standard for a family as a reasonable accommodation if the higher payment standard is no more than 120 percent of the FMR for the unit size.

Granted By: Jemine A. Bryon, General Deputy Assistant Secretary for Public and Indian Housing.

Date Granted: February 21, 2017.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Fairfax County Department of Housing and Community Development (FCDHC) in Alexandria, Virginia, requested a waiver of 24 CFR 982.505(d) so that it could approve an exception payment standard amount above 120 percent of the fair market rents (FMR) as a reasonable accommodation.

Nature of Requirement: 24 CFR 982.505(d) states that a public housing agency may only approve a higher payment standard for a family as a reasonable accommodation if the higher payment standard is no more than 120 percent of the FMR for the unit size.

Granted By: Jemine A. Bryon, General Deputy Assistant Secretary for Public and Indian Housing.

Date Granted: March 3, 2017.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Portage Metropolitan Housing Authority (PMHA) in Ravenna, Ohio, requested a waiver of 24 CFR 982.505(d) so that it could approve an exception payment standard amount above 120 percent of the fair market rents (FMR) as a reasonable accommodation.

Nature of Requirement: 24 CFR 982.505(d) states that a public housing agency may only approve a higher payment standard for a family as a reasonable accommodation if the higher payment standard is no more than 120 percent of the FMR for the unit size.

Granted By: Jemine A. Bryon, General Deputy Assistant Secretary for Public and Indian Housing.

Date Granted: March 9, 2017.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 983.205(b).

Project/Activity: New York City Housing Authority (NYCHA) in New York City, New York, requested a waiver of 24 CFR 983. 205(b) so that it could extend the term of a project-based voucher (PBV) housing assistance payments (HAP) contract.

Nature of Requirement: 24 CFR 983. 205(b) states that extensions after the initial extension are allowed at the end of any extension term provided that no more than 24 months prior to the expiration of the previous extension contract, the public housing agency agrees to extend the term, and that such extension is appropriate to continue providing affordable housing for low-income families or to expand housing opportunities.

Granted By: Jemine A. Bryon, General Deputy Assistant Secretary for Public and Indian Housing.

Date Granted: March 7, 2017.

Reason Waived: This waiver was granted so the owners of the project could secure financing through low-income housing tax credits.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 983.55(b) and 983.153(a).

Project/Activity: Housing Authority of Clackamas County (HACC) in Oregon City, Oregon, requested a waiver of 24 CFR 983.55(b) and 983.153(a) so that it could execute an Agreement to enter into a Housing Assistance Payments (AHAP) contract prior to the completion of a subsidy layering review for a project-based voucher new construction development.

Nature of Requirement: These regulations state that the public housing agency may not enter into an AHAP or housing assistance payments (HAP) contract until HUD or a housing credit agency approved by HUD has conducted any required subsidy layering review and determined that the PBV assistance is in accordance with HUD subsidy layering requirements.

Granted By: Jemine A. Bryon, General Deputy Assistant Secretary for Public and Indian Housing.

Date Granted: March 22, 2017.

Reason Waived: This waiver was granted to allow demolition activities and site preparation to commence prior to Portland's rainy weather season which has a detrimental effect on housing development.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: Housing Authority of East Baton Rouge Parish (HAEBR) requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Lourdes Castro Ramírez, Principal Deputy Assistant Secretary for Public and Indian Housing.

Date Granted: January 11, 2017.

Reason Waived: This waiver was granted for the HAEBRP's fiscal year ending September 30, 2016. The waiver was approved because of On August 14, 2016, President Obama signed a Major Disaster Declaration (DR-4277) for the area that includes the HAEBRP. Agency resources were diverted to relief and recovery efforts.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: The Lincoln Housing Authority (LHA) in Bowling Green, Missouri, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Jemine A. Bryon, General Deputy Assistant Secretary for Public and Indian Housing.

Date Granted: February 6, 2017.

Reason Waived: This waiver was granted for the LHA's fiscal year ending September 30, 2016. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: Hendry County Housing Department (HCHD) in LaBelle, Florida, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Jemine A. Bryon, General Deputy Assistant Secretary for Public and Indian Housing.

Date Granted: February 13, 2017.

Reason Waived: This waiver was granted for the HCHD's fiscal year ending September 30, 2016. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: Housing Authority of the City of Leesville (HACL) in Leesville, Louisiana, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Jemine A. Bryon, General Deputy Assistant Secretary for Public and Indian Housing.

Date Granted: March 2, 2017.

Reason Waived: This waiver was granted for the HACL's fiscal year ending September 30, 2016. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: Housing Authority of the City of Nanticoke (HACN) in Nanticoke, Pennsylvania, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Jemine A. Bryon, General Deputy Assistant Secretary for Public and Indian Housing.

Date Granted: March 2, 2017.

Reason Waived: This waiver was granted for the HACN's fiscal year ending September 30, 2016. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: Scranton Housing Authority (SHA) in Scranton Pennsylvania, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Jemine A. Bryon, General Deputy Assistant Secretary for Public and Indian Housing.

Date Granted: March 9, 2017.

Reason Waived: This waiver was granted for the HACN's fiscal year ending September 30, 2016. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: Housing Authority of the City of Lumberton (HACL) in Lumberton, North Carolina, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Jemine A. Bryon, General Deputy Assistant Secretary for Public and Indian Housing.

Date Granted: March 21, 2017.

Reason Waived: This waiver was granted for the HACL's fiscal year ending March 31, 2017. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: Columbus Housing Authority (CHA) in Columbus, Nebraska, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Jemine A. Bryon, General Deputy Assistant Secretary for Public and Indian Housing.

Date Granted: March 30, 2017.

Reason Waived: This waiver was granted for the CHA's fiscal year ending September 30, 2016. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: Beaver Housing Authority (BHA) in Beaver, Utah, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Jemine A. Bryon, General Deputy Assistant Secretary for Public and Indian Housing.

Date Granted: March 30, 2017.

Reason Waived: This waiver was granted for the BHA's fiscal year ending September 30, 2016. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 903.5.

Project/Activity: Submission of the Annual PHA Plan.

Nature of Requirement: Public Housing Authorities are required to submit an Annual PHA Plan 75 days before the commencement of their fiscal year.

Granted By: Jemine A. Bryon.

Date Granted: February 13, 2017.

Reason Waived: The Housing Authority of the City of Lumberton (HACL) sustained major damages to their administrative offices and public housing units due to flooding caused by Hurricane Matthew. Lumberton, North Carolina was included in the Presidential Disaster Declaration DR-4285. As a result, HACL requested a waiver of 24 CFR 903.5 and an extension of time to submit the Annual PHA Plan. The Department found that good cause existed pursuant to 24 CFR 5.110 to grant the waiver and extend the time for submission of the Annual PHA Plan.

Contact: Bernita James, Office of Public Housing and Voucher Programs, Office of Public and Indian Housing, Department of Housing and Urban Development, 451 Seventh Street SW., Room 4208, Washington, DC 20410, telephone (202) 402-7169.

[FR Doc. 2017-13552 Filed 6-27-17; 8:45 am]

BILLING CODE 4210-67-P